DEPARTMENT OF AGRICULTURE

Forest Service

Information Collection; Information Collection Clearance for the Stewardship Mapping and Assessment Project (STEW-MAP)

AGENCY: Forest Service, Agriculture (USDA).

ACTION: Notice; request for comment.

SUMMARY: In accordance with the Paperwork Reduction Act of 1995, the Forest Service is seeking comments from all interested individuals and organizations on the renewal of a currently approved information collection, Information Collection Clearance for the Stewardship Mapping and Assessment Project (STEW-MAP).

DATES: Comments must be received in writing on or before August 25, 2025 to be assured of consideration. Comments received after that date will be considered to the extent practicable.

ADDRESSES: Comments concerning this notice should be addressed to Lindsay Campbell, USDA Forest Service, NYC Urban Field Station, 431 Walter Reed Rd., Bayside, NY 11359.

Comments also may be submitted via email to lindsay.campbell@usda.gov. Please put “Comments RE: STEW-MAP” in the subject line.

Comments submitted in response to this notice may be made available to the public through relevant websites and upon request. For this reason, please do not include in your comments any information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect the draft supporting statement and/or comments received at USDA Forest Service, NYC Urban Field Station, 431 Walter Reed Rd., Bayside, NY 11359 during normal business hours. Visitors are encouraged to call ahead to (718) 225-3061 to facilitate entry to the building. The public may request an electronic copy of the draft supporting statement and/or any comments received be sent via return email. Requests should be emailed to lindsay.campbell@usda.gov.

FOR FURTHER INFORMATION CONTACT: Lindsay Campbell, Northern Research Station, at (212) 637-4175 or by email to lindsay.campbell@usda.gov. Individuals who use telecommunication devices for the hearing impaired may call 711 to reach the Telecommunications Relay Service, 24 hours a day, every day of the year, including holidays.

SUPPLEMENTARY INFORMATION:

Title: Information Collection Clearance for the Stewardship Mapping and Assessment Project (STEW-MAP).

OMB Number: 0596-0240.

Expiration Date of Approval: January 31, 2026.

Type of Request: Renewal.

Abstract: Local environmental stewardship groups provide support to forests and other natural areas in regions, towns, and rural areas, including National Forest System lands and the surrounding areas. Forests and other natural areas provide a range of benefits and services including stormwater management, air pollution removal, heat mitigation, wildlife habitat, recreation opportunities, stress reduction, aesthetic beauty, noise reduction, and increased property values. The work of civic environmental stewards leverages the efforts of local government officials in maintaining these resources, especially in lean budget times. Civic stewardship organizations, including nonprofits, faith-based groups, formal and informal community groups, and collaboratives, are often involved in, for example, planting trees, maintaining trails, offering environment-themed classes, and cleaning up parks or forests. People who do this work are stewards of their local environments, even if they do not normally use the word “steward” or think of what they do as “stewardship.”

The purpose of this research is to gather information on civic stewardship groups and their efforts such as where they work, the types of projects they focus on, and how they are organized. This information will be summarized and, for the groups agreeing to be represented on a public map, made publicly available online for use by decision-makers, land managers, environmental professionals, the general public, the stewards themselves, and other natural resource management stakeholders.

There are three phases to a STEW-MAP project:

• Phase 1a (Census) is a census of stewardship groups in the target region, generating a master list of known stewardship groups and their contact information.

• Phase 1b (Focus Groups) is a set of focus groups asking representatives of stewardship groups to describe their local context and identify additional organizations working in the region. This phase is optional and an alternative way to generate a master list of known stewardship groups and their contact information.

• Phase Two (Survey) is a survey that is distributed to all of the organizations identified in Phase One to collect information about what they work on, how their group is structured, where they work, and what other groups they collaborate with.

• Phase Three (Follow-Up Interviews) is a follow-up interview with each key responding organization identified during Phase Two to collect more detailed information about the organizations and their histories.

A primary goal of STEW-MAP is to visualize stewardship activities, which can span across the landscape. The geographic information provided by stewardship groups on the survey (Phase Two) will allow the researchers to conduct a spatial analysis of where stewardship groups are working and provide relevant geographic information, like what kinds of stewardship groups are working in particular places. This geographic information will be displayed on maps to show stewards, local land managers, decision-makers, and other interested stakeholders how stewardship work is happening across the region with the goal of encouraging collaboration, building innovative partnerships, increasing organizational capacities, and generally making stewardship efforts more effective and efficient.

Information from STEW-MAP will help planners, natural resource decision-makers, land managers, and the general public work across property jurisdictions and organizations to conserve, protect, and manage natural resources effectively and efficiently. It will also be used to enhance local resource management efforts by helping public officials, land managers, and civic stewards connect to local stewardship groups.

STEW-MAP is being led by Forest Service researchers in partnership with National Forest System staff, as well as researchers from universities and nongovernment organizations. The exact makeup of the research team will vary from location to location where STEW-MAP is conducted. The Forest Service Research and Development branch is authorized to conduct basic scientific research to improve the health of forests and rangelands involving State, Federal, and Tribal agencies, and private landowners across multiple jurisdictions. The study is aligned with various collaborative approaches to landscape-scale resource management that work across jurisdictions and land-use types. This study seeks to identify opportunities for stewardship organizations to better collaborate and, thus, be more effective and efficient in the stewardship of forests and other natural areas.

Due to local geographical differences, and to meet the needs of any particular collaborative effort, we may tailor the survey and interview questions to accommodate the unique requirements of individual communities.

Affected Public: Representatives from civic environmental stewardship groups, and from State, local, or Tribal governments.

Estimate of Burden per Response: 15 to 60 minutes.

Estimated Annual Number of Respondents per Phase

Phase One (Census): 720.

Phase Two (Survey): 6,000.

Phase Three (Follow-up Interviews): 240.

Estimated Annual Number of Responses per Respondent: 1.

Estimated Total Annual Burden on Respondents: 3,683 hours.

Comment Is Invited

Comment is invited on: (1) whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the package submitted to the Office of Management and Budget for approval.

Linda S. Heath,
Director, Inventory, Monitoring & Assessment Research.

[FR Doc. 2025-11538 Filed 6-23-25; 8:45 am]

BILLING CODE 3411-15-P